DEPARTMENT OF HOMELAND SECURITY

[DHS Docket No. ICEB-2012-0002]

RIN 1653-ZA04

Employment Authorization for Syrian F-1 Nonimmigrant Students Experiencing Severe Economic Hardship as a Direct Result of Civil Unrest in Syria Since March 2011

AGENCY: U.S. Immigration and Customs Enforcement; DHS.

ACTION: Notice.

SUMMARY: This notice announces that the Secretary of Homeland Security (Secretary) has suspended certain regulatory requirements for F-1 nonimmigrant students whose country of citizenship is Syria and who are experiencing severe economic hardship as a direct result of the civil unrest in Syria since March 2011. The Secretary has determined that a suspension of certain regulatory requirements for Syrian citizens who are F-1 nonimmigrant students is warranted because it will provide relief to these F-1 students so they may obtain employment authorization, work an increased number of hours while school is in session, and reduce their course load while continuing to maintain their F-1 student status. F-1 students who are granted employment authorization by means of this notice will be deemed to be engaged in a “full course of study” for the duration of their employment authorization, provided that they satisfy the minimum course load requirement described in this notice.

DATES: This notice is effective April 3, 2012 and will remain in effect until October 3, 2013.

FOR FURTHER INFORMATION CONTACT: Louis Farrell, Director, Student and Exchange Visitor Program; MS 5600, U.S. Immigration and Customs Enforcement, 500 12th Street SW., Washington, DC 20536-5600; (703) 603-3400. This is not a toll-free number. Program information can be found at http://www.ice.gov/sevis/.

SUPPLEMENTARY INFORMATION:

What action is DHS taking under this notice?

The Secretary of Homeland Security (Secretary) is exercising her authority under 8 CFR 214.2(f)(9) to temporarily suspend the applicability of certain requirements governing on-campus and off-campus employment. F-1 students granted employment authorization by means of this notice will be deemed to be engaged in a “full course of study” for the duration of their employment authorization if they satisfy the minimum course load set forth in this notice. See 8 CFR 214.2(f)(6)(i)(F).

Who is covered by this notice?

This notice applies exclusively to F-1 students whose country of citizenship is Syria and who were lawfully present in the United States in F-1 nonimmigrant status on April 3, 2012 under section 101(a)(15)(F)(i) of the Immigration and Nationality Act (INA), 8 U.S.C. 1101(a)(15)(F)(i) and (1) are enrolled in an institution that is Student and Exchange Visitor Program (SEVP) certified for enrollment for F-1 students; (2) are currently maintaining F-1 status; and (3) are experiencing severe economic hardship as a direct result of the civil unrest in Syria since March 2011.

This notice applies to both undergraduate and graduate students, as well as elementary school, middle school, and high school students. F-1 students covered by this notice who transfer to other academic institutions that are SEVP-certified for enrollment of F-1 students remain eligible for the relief provided by means of this notice.

Why is DHS taking this action?

DHS is taking action to provide relief to F-1 students whose country of citizenship is Syria and who are experiencing severe economic hardship as a direct result of the civil unrest in Syria since March 2011. These students may obtain employment authorization, work an increased number of hours while school is in session, and reduce their course load while continuing to maintain their F-1 status.

The crisis in Syria and economic sanctions imposed by the international community have negatively affected the whole of the Syrian economy. Given the current conditions in Syria, affected students whose primary means of financial support comes from Syria may now need to be exempt from the normal student employment requirements to be able to continue their studies in the United States and meet basic living expenses. According to DHS records, there are over 500 students from Syria enrolled in the United States for the current school year. The Secretary has determined, after consultation with appropriate government agencies, including the Department of State (DOS), that there exist extraordinary and temporary conditions in Syria since at least March 2011 that prevent Syrian nationals from returning to their home country in safety. The brutal government crackdown and the overall lack of security have made it unfeasible for students to safely return to Syria for the foreseeable future. To ameliorate the hardship arising from the lack of financial support from family members and others in Syria, and to facilitate the students' continued studies in the United States, DHS is suspending the applicability of certain requirements governing on-campus and off-campus employment.

What is the minimum course load requirement set forth in this notice?

Undergraduate students who are granted on-campus or off-campus employment authorization under this notice must remain registered for a minimum of six semester/quarter hours of instruction per academic term. Graduate-level F-1 students who are granted on-campus or off-campus employment authorization under this notice must remain registered for a minimum of three semester/quarter hours of instruction per academic term. See 8 CFR 214.2(f)(5)(v). In addition, F-1 students (both undergraduate and graduate) granted on-campus or off-campus employment authorization under this notice may count up to the equivalent of one class or three credits per session, term, semester, trimester, or quarter of online or distance education toward satisfying this minimum course load requirement, unless the student's course of study is in a language study program. See 8 CFR 214.2(f)(6)(i)(G). Elementary school, middle school, and high school students must maintain “class attendance for not less than the minimum number of hours a week prescribed by the school for normal progress toward graduation,” as required under 8 CFR 214.2(f)(6)(i)(E).

May Syrian F-1 students who already have on-campus or off-campus employment authorization benefit from the suspension of regulatory requirements under this notice?

Yes. Syrian F-1 students who already have on-campus or off-campus employment authorization may benefit under this notice, which suspends regulatory requirements relating to the minimum course load requirement under 8 CFR 214.2(f)(6)(i)(A) and (B) and the employment eligibility requirements under 8 CFR 214.2(f)(9) as specified in this notice. Such Syrian F-1 students may benefit without having to apply for a new Form I-766, Employment Authorization Document (EAD). To benefit from this notice, the student must request that his or her designated school official (DSO) enter the following statement in the remarks field of the Student and Exchange Visitor Information System (SEVIS) student record, which will be reflected on the student's Form I-20, Certificate of Eligibility for Nonimmigrant (F-1) Student Status:

Approved for more than 20 hours per week of [DSO must insert “on-campus” or “off-campus,” depending upon the type of employment authorization the student already has] employment authorization and reduced course load under the Special Student Relief authorization from [DSO must insert the beginning date of employment] until [DSO must insert the student's program end date, October 3, 2013, or the current EAD expiration date (if the student is currently working off campus), whichever date comes first.

Must the F-1 student apply for reinstatement after expiration of this special employment authorization if the student reduces his or her full course of study?

No. F-1 students who are granted employment authorization under this notice will be deemed to be engaged in a “full course of study” for the duration of their employment authorization, provided that qualifying undergraduate level F-1 students remain registered for a minimum of six semester/quarter hours of instruction per academic term, and qualifying graduate level F-1 students remain registered for a minimum of three semester/quarter hours of instruction per academic term. See 8 CFR 214.2(f)(5)(v) and (f)(6)(i)(F). Such students will not be required to apply for reinstatement under 8 CFR 214.2(f)(16) if they are otherwise maintaining F-1 status.

Will F-2 dependents (spouse or minor children) of F-1 students covered by this notice be eligible to apply for employment authorization?

No. An F-2 spouse or minor child of an F-1 student is not authorized to work in the United States and, therefore, may not accept employment under the F-2 status. See 8 CFR 214.2(f)(15)(i).

Will the suspension of the applicability of the standard student employment requirements apply to aliens who are granted an F-1 visa after this notice is published in the Federal Register?

No. The suspension of the applicability of the standard regulatory requirements only applies to those F-1 students whose country of citizenship is Syria and who were lawfully present in the United States in F-1 nonimmigrant status on April 3, 2012 under section 101(a)(15)(F)(i) of the INA, 8 U.S.C. 1101(a)(15)(F)(i) and (1) are enrolled in an institution that is SEVP certified for enrollment of F-1 students; (2) are currently maintaining F-1 status; and (3) are experiencing severe economic hardship as a direct result of the civil unrest in Syria. F-1 students who do not meet these requirements do not qualify for the suspension of the applicability of the standard regulatory requirements, even if they are experiencing severe economic hardship as a direct result of the civil unrest in Syria since March 2011.

Does this notice apply to an F-1 student who departs the United States after this notice is published in the Federal Register and who needs to obtain a new F-1 visa before he or she may return to the United States to continue his or her educational programs?

Yes, provided that the DSO has properly notated the student's SEVIS record, which will then appear on the student's Form I-20. Subject to the specific terms of this notice, the normal rules for visa issuance (including those related to public charge and nonimmigrant intent) remain applicable to nonimmigrants that need to apply for a new F-1 visa in order to continue their educational programs in the United States.

Does this notice apply to elementary school, middle school, and high school students in F-1 status?

Yes. But this notice does not reduce the required course load for elementary school, middle school, or high school students in F-1 status. Such students must maintain the minimum number of hours of class attendance per week prescribed by the school for normal progress toward graduation. See 8 CFR 214.2(f)(6)(i)(E). Eligible F-1 students from Syria enrolled in an elementary school, middle school, or high school do benefit from the suspension of the requirement in 8 CFR 214.2(f)(9)(i) that limits on-campus employment to 20 hours per week while school is in session. With regard to off-campus employment, elementary school, middle school, and high school students benefit from the suspension of the requirement that a student must have been in F-1 status for one full academic year in order to be eligible for off-campus employment and the requirement that limits a student's work authorization to no more than 20 hours per week of off-campus employment while school is in session. DHS notes, however, that the suspension of these requirements is solely for DHS purposes of determining valid F-1 status. Nothing in this notice affects the applicability of federal and state labor laws limiting the employment of minors. The suspension of certain regulatory requirements related to employment through this notice is applicable to all eligible F-1 students—regardless of educational level—as required by the regulations at 8 CFR 214.2(f)(9)(i) and (f)(9)(ii).

On-Campus Employment Authorization

Will F-1 students who are granted on-campus employment authorization under this notice be authorized to work more than 20 hours per week while school is in session?

Yes. For F-1 students covered in this notice, the Secretary is suspending the applicability of the requirement in 8 CFR 214.2(f)(9)(i) that limits an F-1 student's on-campus employment to 20 hours per week while school is in session. A student whose country of citizenship is Syria and who is experiencing severe economic hardship as result of civil unrest in Syria since March 1, 2011 is authorized to work more than 20 hours per week while school is in session if his or her DSO has entered the following statement in the remarks field of the SEVIS student record, which will be reflected on the student's Form I-20:

Approved for more than 20 hours per week of on-campus employment and reduced course load, under the Special Student Relief authorization from [DSO must insert the beginning date of employment] until [DSO must insert the student's program end date or October 3, 2013, whichever date comes first].

To obtain on-campus employment authorization, the student must demonstrate to his or her DSO that the employment is necessary to avoid severe economic hardship that is directly resulting from the civil unrest in Syria. A student authorized by his or her DSO to engage in on-campus employment by means of this notice does not need to make any filing with U.S. Citizenship and Immigration Services (USCIS). The standard rules permitting fulltime work on-campus when school is not in session or during school vacations apply. See 8 CFR 214.2(f)(9)(i).

Will F-1 students who are granted on-campus employment authorization under this notice be authorized to reduce their normal course load and still maintain their F-1 nonimmigrant status?

Yes. F-1 students who are granted on-campus employment authorization under this notice will be deemed to be engaged in a “full course of study” for the purpose of maintaining their F-1 status for the duration of their on-campus employment if they satisfy the minimum course load requirement described in this notice. See 8 CFR 214.2(f)(6)(i)(F). However, the authorization for reduced course load is solely for DHS purposes of determining valid F-1 status. Nothing in this notice mandates that a school allow a student to take a reduced course load if the reduction would not meet the school's minimum course load requirement for continued enrollment.¹

¹ Minimum course load requirement for enrollment in a school must be established in a publicly available document (e.g., catalog, Web site, or operating procedure), and it must be a standard applicable to all students (U.S. citizens and foreign students) enrolled at the school.

Off-Campus Employment Authorization

What regulatory requirements does this notice temporarily suspend relating to off-campus employment?

For F-1 students covered by this notice, as provided under 8 CFR 214.2(f)(9)(ii)(A), the Secretary is suspending the following regulatory requirements relating to off-campus employment:

(a) The requirement that a student must have been in F-1 status for one full academic year in order to be eligible for off-campus employment;

(b) The requirement that an F-1 student must demonstrate that acceptance of employment will not interfere with the student's carrying a full course of study; and

(c) The requirement that limits a student's work authorization to no more than 20 hours per week of off-campus employment while school is in session.

Will F-1 students who are granted off-campus employment authorization under this notice be authorized to reduce their normal course load and still maintain their F-1 nonimmigrant status?

Yes. F-1 students who are granted employment authorization by means of this notice will be deemed to be engaged in a “full course of study” for purpose of maintaining their F-1 status for the duration of their employment authorization if they satisfy the minimum course load requirement described in this notice. See 8 CFR 214.2(f)(6)(i)(F). However, the authorization for reduced course load is solely for DHS purposes of determining valid F-1 status. Nothing in this notice mandates that a school allow a student to take reduced course load if such reduced course load would not meet the school's minimum course load requirement.²

² Minimum course load requirement for enrollment in a school must be established in a publicly available document (e.g., catalog, Web site, or operating procedure), and it must be a standard applicable to all students (U.S. citizens and foreign students) enrolled at the school.

How may Syrian F-1 students obtain employment authorization for off-campus employment with a reduced course load under this notice?

F-1 students must file a Form I-765 Application for Employment Authorization with USCIS if they wish to apply for off-campus employment authorization based on severe economic hardship resulting from the civil unrest in Syria since March 1, 2011. Filing instructions are located at: http://www.uscis.gov/i-765.

Fee considerations. Submission of a Form I-765 currently requires payment of a $380 fee. If the applicant is unable to pay the fee, he or she may submit a completed Form I-912, Request for Fee Waiver, along with the Form I-765 Application for Employment Authorization. The applicant must follow all form instructions associated with the Form I-912, which are available at: http://www.uscis.gov/feewaiver. The submission must include an explanation of why he or she should be granted the fee waiver and the reasons for his or her inability to pay. See 8 CFR 103.7(c).

Supporting documentation. An F-1 student seeking off-campus employment authorization due to severe economic hardship must demonstrate to the DSO at the school where the F-1 student is enrolled that this employment is necessary to avoid severe economic hardship and that the hardship is resulting from the civil unrest in Syria since March 1, 2011. If the DSO agrees that the student should receive such employment authorization, he or she must recommend application approval to USCIS by entering the following statement in the remarks field of the student's SEVIS record, which will then appear on the student's Form I-20:

Recommended for off-campus employment authorization in excess of 20 hours per week and reduced course load under the Special Student Relief authorization from the date of the USCIS authorization noted on Form I-766 until [DSO must insert the program end date or October 3, 2013, whichever date comes first.

The student must then file the properly endorsed Form I-20 and Form I-765, according to the instructions for the Form I-765. The student may begin working off campus only upon receipt of the EAD from USCIS.

DSO recommendation. In making a recommendation that a student be approved for Special Student Relief, the DSO certifies that:

(a) The student is in good academic standing as determined by the DSO;

(b) The student is a citizen of Syria and is experiencing severe economic hardship as a direct result of the civil unrest in Syria since March 1, 2011, as documented on the Form I-20;

(c) The student is carrying a full course of study at the time of the request for employment authorization;

(d) The student will be registered for the duration of his or her authorized employment for a minimum of six semester or quarter hours of instruction per academic term if the student is at the undergraduate level, or for a minimum of three semester or quarter hours of instruction per academic term if the student is at the graduate level; and

(e) The off-campus employment is necessary to alleviate severe economic hardship to the individual caused by the civil unrest in Syria since March 1, 2011.

Processing. To facilitate prompt adjudication of the student's application for off-campus employment authorization under 8 CFR 214.2(f)(9)(ii)(C), the student should:

(a) ensure that the application package includes: (1) A completed Form I-765; (2) the required fee or properly documented fee waiver request as defined in 8 CFR 103.7(c); and (3) a signed and dated copy of the student's Form I-20 with the appropriate DSO recommendation, as previously described in this notice; and

(b) send the application in an envelope which is clearly marked on the front of the envelope, bottom right-hand side, with the phrase “SPECIAL STUDENT RELIEF.” Failure to include this notation may result in significant processing delays. If USCIS approves the student's Form I-765, the USCIS official will send the student a Form I-766 EAD as evidence of his or her employment authorization. The EAD will contain an expiration date that does not exceed the student's program end date.

Temporary Protected Status Considerations

Can an F-1 student apply for Temporary Protected Status and for benefits under this notice at the same time?

Yes. An F-1 student who has not yet applied for Temporary Protected Status (TPS) or for student relief under this notice has two options. Under the first option, the student may file the TPS application according to the instructions in the Federal Register Notice designating Syria for TPS. See 77 FR 19026, March 29, 2012.

All TPS applicants must file a Form I-821 Application for Temporary Protected Status, along with Form I-765, even if the applicants are not seeking employment authorization under TPS. The fee (or a properly documented fee waiver request) for Form I-765 is required only if the applicant is seeking employment authorization under TPS. See 8 CFR 244.6. If the student files a TPS application and requests employment authorization under TPS, once the student receives the TPS-related EAD, the student may request that his or her DSO make the required entry in SEVIS, issue an updated Form I-20, as described in this notice, and note that the student has been authorized to carry a reduced course load and is working pursuant to a TPS-related EAD. So long as the student maintains the minimum course load described in this notice, does not otherwise violate his or her nonimmigrant status as provided under 8 CFR 214.1(g), and maintains his or her TPS, then the student maintains F-1 status and TPS concurrently. Under the second option, the student may apply for an EAD under student relief. In this instance, Form I-765 must be filed with the location specified in the filing instructions. At the same time, the student may file a separate TPS application, but must submit the TPS application according to the instructions provided in the Federal Register Notice designating Syria for TPS. Because the student has already applied for employment authorization under student relief, the Form I-765 submitted as part of the TPS application is without fee and the applicant should not check any of the boxes requesting a TPS-related EAD. Again, the student will be able to maintain F-1 status and TPS.

When a student applies simultaneously for TPS status and benefits under this notice, what is the minimum course load requirement while an application for employment authorization is pending?

The student must maintain normal course load requirements for a full course of study unless or until he or she is granted employment authorization under this notice. TPS-related employment authorization, by itself, does not authorize a student to drop below 12 credit hours. Once approved for “severe economic hardship” employment authorization, the student may drop below 12 credit hours (with a minimum of six semester or quarter hours of instruction per academic term if the student is at the undergraduate level, or a minimum of three semester or quarter hours of instruction per academic term if the student is at the graduate level). See 8 CFR 214.2(f)(6), 214.2(f)(5)(v), 214.2(f)(9)(i) and (ii).

If a student has been approved for employment authorization under TPS, how does he or she apply for authorization to take a reduced course load under this notice?

There is no further application process. The student only needs to demonstrate economic hardship caused by the March 1, 2011 civil unrest in Syria to his or her DSO and receive the DSO recommendation in SEVIS. No other EAD will be issued.

Can a student who has been granted TPS, and has allowed his or her F-1 status to lapse, apply for reinstatement to F-1 student status?

Yes. Current regulations permit a student who falls out of student status to apply for reinstatement. See 8 CFR 214.2(f)(16). For example, this provision would apply to a student who worked on a TPS-related EAD or dropped his or her course load before publication of this notice, and therefore fell out of student status. The student must satisfy the criteria set forth in the student status reinstatement regulations.

How long will this notice remain in effect?

This notice grants temporary relief until October 3, 2013 to a specific group of F-1 students whose country of citizenship is Syria. DHS will continue to monitor the situation in Syria. Should the special provisions authorized by this notice need to be modified or extended, DHS will announce such changes in the Federal Register.

Paperwork Reduction Act

An F-1 student seeking off-campus employment authorization due to severe economic hardship must demonstrate to the DSO at the school where he or she is enrolled that this employment is necessary to avoid severe economic hardship. If the DSO agrees that the student should receive such employment authorization, he or she must recommend application approval to USCIS by entering information in the remarks field of the student's SEVIS record. The authority to collect this information is currently contained in the SEVIS collection of information currently approved by the Office of Management and Budget (OMB) under OMB Control Number 1653-0038.

This notice also allows F-1 students whose country of citizenship is Syria and who are experiencing severe economic hardship as a direct result of civil unrest in Syria since March 1, 2011, to obtain employment authorization, work an increased number of hours while school is in session, and reduce their course load, while continuing to maintain their F-1 student status.

To apply for work authorization an F-1 student must complete and submit currently approved Form I-765 according to the instructions on the form. The authority to collect the information contained on the current Form I-765 has previously been approved by OMB under the Paperwork Reduction Act (PRA) under OMB Control No. 1615-0040. Although there will be a slight increase in the number of Form I-765 filings because of this notice, the number of filings currently contained in the OMB annual inventory for Form I-765 is sufficient to cover the additional filings. Accordingly, there is no further action required under the PRA.

Janet Napolitano,
Secretary.

[FR Doc. 2012-7960 Filed 4-2-12; 8:45 am]

BILLING CODE P